NATIONAL CREDIT UNION ADMINISTRATION

Agency Information Collection Activities: Proposed Collections; Comment Request

AGENCY: National Credit Union Administration (NCUA).

ACTION: Notice and request for comment.

SUMMARY: The National Credit Union Administration (NCUA), as part of a continuing effort to reduce paperwork and respondent burden, invites the general public and other Federal agencies to comment on the following renewals of currently approved collections, as required by the Paperwork Reduction Act of 1995.

DATES: Written comments should be received on or before February 5, 2018 to be assured consideration.

ADDRESSES: Interested persons are invited to submit written comments on the information collections to Dawn Wolfgang, National Credit Union Administration, 1775 Duke Street, Suite 5080, Alexandria, Virginia 22314; Fax No. 703-519-8579; or Email at PRAComments@NCUA.gov.

FOR FURTHER INFORMATION CONTACT: Requests for additional information should be directed to the address above or telephone 703-548-2279.

SUPPLEMENTARY INFORMATION:

OMB Number: 3133-0138.

Title: Community Development Revolving Loan Fund—Loan and Grant Programs, 12 CFR part 705.

Abstract: NCUA's Community Development Revolving Loan Fund (CDRLF or Fund) was established by Congress (Pub. L. 96-123, November 20, 1979) to stimulate economic development in low-income communities. Part 705 was adopted by the Board under section 130 of the Federal Credit Union Act (12 U.S.C. 1772c-1), which implements the Community Development Credit Union Revolving Loan Fund Transfer Act (Pub. L. 99-609, 100 Stat. 3475 (Nov. 6, 1986)).

The Fund is used to support credit unions that serve low-income communities by providing loans and technical assistance grants to qualifying institutions. The programs are designed to increase income, ownership, and employment opportunities for low-income residents, and to stimulate economic growth. In addition, the programs provide assistance to improve the quality of services to the community and formulate more effective and efficient operations of credit unions. The information will allow NCUA to assess a credit union's capacity to repay the Funds and/or ensure that the funds are used as intended to benefit the institution and community it serves.

Type of Review: Revision of a currently approved collection.

Affected Public: Private Sector: Not-for-profit institutions.

Estimated No. of Respondents: 450 grant program; 4 loan program.

Estimated Annual Frequency: Once.

Estimated Annual Number of Responses: 785 grant program; 14 loan program.

Estimated Burden Hours per Response: 0.95.

Estimated Total Annual Burden Hours: 760.

Reason for Change: A reduction is attributed to a program change due to the recent consolidation of NCUA informal appeals process under 12 CFR part 746, subpart B. Additionally, adjustments are being made to reflect current application activity under the Fund programs and to include information collection activities that had not been accounted for in the past.

OMB Number: 3133-0180.

Title: Liquidity Contingency Funding Plans, 12 CFR 741.12.

Abstract: The 2008 financial crisis demonstrated the importance of good liquidity risk management to the safety and soundness of financial institutions. In conjunction with the OCC, FRB, FDIC, and Conference of State Bank Supervisors (CSBS), adopted the Interagency Policy Statement on Funding and Liquidity Risk Management in March of 2010.

In October 2013, to clarify NCUA's expectation on the Interagency Policy Statement and to reduce the regulatory burden on small credit unions, NCUA codified the requirements for Liquidity and Contingency Funding Plans as § 741.12. The rule establishes a three tier framework for federally insured credit unions, based on asset size. Federally insured credit union with assets under $50 million must maintain a basic policy, federally insured credit unions with assets of $50 million and over must maintain a contingency funding plan, and federally insured credit unions with assets over $250 million must maintain a contingency funding plan and establish a federal liquidity contingency source.

Type of Review: Extension of a currently approved collection.

Affected Public: Private Sector: Not-for-profit institutions.

Estimated No. of Respondents: 5,696.

Estimated Annual Frequency: 1.

Estimated Annual Number of Responses: 5,696.

Estimated Burden Hours per Response: 0.78.

Estimated Total Annual Burden Hours: 4,425.

Reason for Change: A reduction in burden hours is due to an adjustment in the number of credit unions in each category of respondent.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on November 30, 2017.
Dated: November 30, 2017.
Dawn D. Wolfgang,
NCUA PRA Clearance Officer.

[FR Doc. 2017-26361 Filed 12-6-17; 8:45 am]

BILLING CODE 7535-01-P